DEPARTMENT OF COMMERCE

International Trade Administration

[A-489-807]

Certain Steel Concrete Reinforcing Bars From Turkey; Notice of Extension of Time Limits for Preliminary Results of Antidumping Duty Administrative Review and New Shipper Review

AGENCY: Import Administration, International Trade Administration, Department of Commerce.

DATES: Effective Date: October 25, 2006.

FOR FURTHER INFORMATION CONTACT: Irina Itkin or Alice Gibbons, AD/CVD Operations, Office 2, Import Administration, International Trade Administration, U.S. Department of Commerce, 14th Street and Constitution Avenue, NW., Washington, DC 20230; telephone: (202) 482-0656 or (202) 482-0498, respectively

SUPPLEMENTARY INFORMATION:

Background

On May 31, 2006, the Department of Commerce (the Department) published a notice of initiation of administrative review of the antidumping duty order on certain steel concrete reinforcing bars (rebar) from Turkey. See Initiation of Antidumping and Countervailing Duty Administrative Reviews and Request for Revocation in Part, 71 FR 30864 (May 31, 2006). The period of review is April 1, 2005, through March 31, 2006, and the preliminary results are currently due no later than January 2, 2007, the first business day after December 31, 2006. The review covers five producers/exporters of the subject merchandise to the United States.

In addition, on May 26, 2006, the Department published a notice of initiation of a new shipper review of the antidumping duty order on rebar from Turkey for Kroman Celik Sanayii A.S., a producer of subject merchandise, and its affiliated export trading company, Yucelboru Ihracat Ithalat ve Pazarlama A.S. (collectively “Kroman”). See Notice of Initiation of New Shipper Antidumping Duty Review: Certain Steel Concrete Reinforcing Bars from Turkey, 71 FR 30383 (May 26, 2006). Kroman agreed in writing to waive the time limits in order for the Department, pursuant to 19 CFR 351.214(j)(3), to conduct this review concurrently with the ninth administrative review of this order for the period April 1, 2005, through March 31, 2006, which is being conducted pursuant to section 751(a)(1) of the Tariff Act of 1930, as amended (the Act). Therefore, the preliminary results are currently due no later than January 2, 2007, the first business day after December 31, 2006.

Extension of Time Limit for Preliminary Results

Pursuant to section 751(a)(3)(A) of the Act, the Department shall make a preliminary determination in an administrative review of an antidumping order within 245 days after the last day of the anniversary month of the date of publication of the order. Section 751(a)(3)(A) of the Act further provides, however, that the Department may extend the 245-day period to 365 days if it determines it is not practicable to complete the review within the foregoing time period. We determine that it is not practicable to complete this administrative review within the time limits mandated by section 751(a)(3)(A) of the Act because this review involves a number of complicated issues for certain of the respondents, including a request for revocation for two respondents. Analysis of these issues, as well as the required verifications of these companies, requires additional time. Therefore, we have fully extended the deadline for completing the preliminary results until April 30, 2007, which is 365 days from the last day of the anniversary month of the date of publication of the order. The deadline for the final results of the review continues to be 120 days after the publication of the preliminary results.

This extension notice is published in accordance with sections 751(a)(3)(A) and 777(i) of the Act.

Dated: October 18, 2006.
Stephen J. Claeys,
Deputy Assistant Secretary for Import Administration.

[FR Doc. E6-17893 Filed 10-24-06; 8:45 am]

BILLING CODE 3510-DS-P